FEDERAL ELECTION COMMISSION

[Docket No. 2013-05]

Filing Dates for the South Carolina Special Elections in the 1st Congressional District

AGENCY: Federal Election Commission.

ACTION: Notice of filing dates for special party nominating convention.

SUMMARY: The South Carolina Green Party will select their party's nominee at a Special Party Convention on March 9, 2013. Committees required to file reports in connection with the Special Green Party Convention shall file a 12-day Pre-Convention Report.

FOR FURTHER INFORMATION CONTACT: Ms. Elizabeth S. Kurland, Information Division, 999 E Street NW., Washington, DC 20463; Telephone: (202) 694-1100; Toll Free (800) 424-9530.

SUPPLEMENTARY INFORMATION: On January 8, 2013, the Commission approved the filing dates for the Special Primary, Runoff and General Elections that will be held in the First Congressional District to fill the U.S. House seat vacated by Senator Tim Scott. The Special General Election date is May 7, 2013. The Democratic and Republican parties will nominate candidates for that election in Special Primary Elections on March 19, 2013, with Special Runoff Elections held on April 2, 2013, if necessary. At the time the Commission approved the filing requirements for the Special Primary, Runoff and General Elections, no special nominating conventions had been scheduled by any of the other certified political parties in South Carolina.

The Commission has received additional information that the South Carolina Green Party has scheduled a convention on March 9, 2013, to select their nominee for the Special General Election. Committees required to file reports in connection with the Special Green Party Convention on March 9, 2013, shall file a 12-day Pre-Convention Report. The date for the Special General is unchanged and, as such, this Federal Register Notice only includes information on the filing requirements in connection with the special nominating convention. The reporting requirements in connection with the South Carolina Special General Election were published in the Federal Register on February 4, 2013 (78 FR 7781).

Principal Campaign Committees

All principal campaign committees of candidates who participate in the South Carolina Special Green Party Convention shall file a 12-day Pre-Convention Report on February 25, 2013. (See charts below for the closing date for the report.)

Unauthorized Committees (PACs and Party Committees)

Political committees filing on a semi-annual basis in 2013 are subject to special election reporting if they make previously undisclosed contributions or expenditures in connection with the South Carolina Special Green Party Convention or Special General Election by the close of books for the applicable report(s). (See charts below for the closing date for each report.)

Committees filing monthly that make contributions or expenditures in connection with the South Carolina Special Green Party Convention or Special General Election will continue to file according to the monthly reporting schedule.

Additional disclosure information in connection with the South Carolina Special Elections may be found on the FEC Web site at http://www.fec.gov/info/report_dates.shtml.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of $17,100 during the special election reporting periods (see charts below for closing date of each period). 11 CFR 104.22(a)(5)(v) and (b).

Calendar of Reporting Dates for South Carolina Special Elections
Report | Close of books¹ | Reg./cert. & overnight mailing deadline | Filing deadline
Quarterly Filing Committees Involved in Only the Special Green Party Convention (03/09/13) Must File:
Pre-Convention | 02/17/13 | 02/22/13 | 02/25/13
April Quarterly | 03/31/13 | 04/15/13 | 04/15/13
Semi-annual Filing Committees Involved in Only The Special Green Party Convention (03/09/13) Must File:
Pre-Convention | 02/17/13 | 02/22/13 | 02/25/13
Mid-Year | 06/30/13 | 07/31/13 | 07/31/13
¹ These dates indicate the end of the reporting period. A reporting period always begins the day after the closing date of the last report filed. If the committee is new and has not previously filed a report, the first report must cover all activity that occurred before the committee registered as a political committee with the Commission up through the close of books for the first report due.

Dated: February 6, 2013.
On behalf of the Commission,
Ellen L. Weintraub,
Chair, Federal Election Commission.

[FR Doc. 2013-03226 Filed 2-12-13; 8:45 am]

BILLING CODE 6715-01-P